FEDERAL RESERVE SYSTEM

Sunshine Act Meeting

Agency Holding the Meeting: Board of Governors of the Federal Reserve System

Federal Register Citation of Previous Announcement: 65 FR 12010, March 7, 2000.

Previously Announced Time and Date of the Meeting: 11 a.m., Friday, March 10, 2000.

Changes in the Meeting: Addition of the following open item to the meeting:

Summary Agenda:

1. Consideration of rules to permit state member banks to acquire financial subsidiaries under the Gramm-Leach-Bliley Act.

Contact Person for More Information: Lynn S. Fox, Assistant to the Board; 202-452-3204.

Supplementary Information: You may call 202-452-3206 for a recorded announcement of this meeting; or you may contact the Board's Web site at http://www.federalreserve.gov for an electronic announcement. (The Web site also includes procedural and other information about the open meeting.)

Dated: March 7, 2000.
Robert deV. Frierson,
Associate Secretary of the Board.

[FR Doc. 00-6026 Filed 3-8-00; 10:54 am]

BILLING CODE 6210-01-P